DEPARTMENT OF AGRICULTURE

Forest Service

Information Collection: Stewardship Mapping and Assessment Project (STEW-MAP)

AGENCY: Forest Service, USDA.

ACTION: Notice; request for comment.

SUMMARY: In accordance with the Paperwork Reduction Act of 1995, the Forest Service is seeking comments from all interested individuals and organizations on the renewal of the Stewardship Mapping and Assessment Project (STEW-MAP) information collection.

DATES: Comments must be received in writing on or before May 22, 2018 to be assured of consideration. Comments received after that date will be considered to the extent practicable.

ADDRESSES: Comments concerning this notice should be addressed to Erika Svendsen, USDA Forest Service, NYC Urban Field Station, 431 Walter Reed Rd., Bayside, NY 11359. Comments also may be submitted by email to esvendsen@fs.fed.us. Please put “Comments re: STEW-MAP” in the subject line. Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the comments received at USDA Forest Service, USDA Forest Service, NYC Urban Field Station, 431 Walter Reed Rd., Bayside, NY 11359 during normal business hours. Visitors are encouraged to call ahead to 718-225-3061 to facilitate entry to the building. The public may request an electronic copy of the draft supporting statement and/or any comments received be sent via return email. Requests should be emailed to esvendsen@fs.fed.us.

FOR FURTHER INFORMATION CONTACT: Erika Svendsen at 718-225-3061 x301. Individuals who use telecommunication devices for the deaf (TDD) may call the Federal Information Relay Service (FIRS) at 1-800-877-8339 twenty-four hours a day, every day of the year, including holidays.

SUPPLEMENTARY INFORMATION:

Title: Information Collection Clearance for the Stewardship Mapping and Assessment Project (STEW-MAP).

OMB Number: 0596-0240.

Type of Request: Renewal.

Abstract: Local environmental stewardship groups are essential for ensuring the vibrancy of natural areas in cities, suburbs, towns, and rural areas, including National Forest lands and the surrounding areas. Natural areas provide a range of benefits and services including storm water management, air pollution removal, urban heat island mitigation, carbon storage, wildlife habitat, recreation opportunities, stress reduction, aesthetic beauty, noise reduction, increased property values, and reduced energy use. The work of civic environmental stewards leverages the efforts of local government officials in maintaining these resources, especially in lean budget times. Civic stewardship organizations, including nonprofits, faith-based groups, formal and informal community groups, and coalitions, are often involved in, for example, planting trees, organizing community gardens, offering environment-themed classes, engaging with local officials on behalf of the environment, monitoring plants or animals, and cleaning up nearby parks or natural areas. People who do this work are stewards of their local environments, even if they do not normally use the word “steward” or think of what they do as “stewardship.”

The roles of civic environmental stewards and their levels of engagement and commitment are often not understood by land managers and other decision makers. This means that the valuable services they provide may not be recognized and built on to full advantage. In addition, stewards themselves may not be aware of others doing similar work in their area so there may be lost opportunities for collaboration between groups.

The purpose of this research is to gather information on civic stewardship groups and their efforts such as where they work, the types of projects they focus on, and how they are organize. This information will be summarized and made publicly available online for use by policy makers, land managers, environmental professionals, the general public, stewards themselves, and other natural resource management stakeholders.

There are three phases to a STEW-MAP project:

• Phase One (Census) is a census of stewardship groups in the target region, generating a master list of known stewardship groups and their contact information.

• Phase Two (Survey) is a survey which is distributed to all of the organizations identified in Phase One to collect information about what they work on, how their group is structured, where they work, and what other groups they collaborate with.

• Phase Three (Follow-Up Interviews) is follow-up interviews with key responding organizations identified during Phase Two to collect more detailed information about the organizations and their histories.

A primary goal of STEW-MAP is to visualize stewardship activities, which can span across the urban to rural landscape. The geographic information provided by stewardship groups on the survey (Phase Two) will allow the researchers to do a spatial analysis of where stewardship groups are working, identify “gaps” where little to no stewardship is being done, and provide locally relevant geographic information like what kinds of stewardship groups are working in particular places. This geographic information will be displayed on maps to show stewards, local land managers, policy makers, and other interested stakeholders how stewardship work is distributed across the region with the goal of encouraging collaboration, building innovative partnerships, increasing organizational capacities, and generally making stewardship efforts more effective.

Information from STEW-MAP will help planners, natural resource decision makers, land managers, and the general public work across property jurisdictions, management regimes and political boundaries to conserve, protect, and manage natural resources effectively. It will also be used to enhance local resource management efforts by helping public officials, land managers, and civic stewards connect to local stewardship groups.

STEW-MAP is being led by researchers from the Forest Service in partnership with researchers from universities and nongovernment organizations. The exact makeup of the research team will vary from location to location where STEW-MAP is conducted. The Forest Service Research and Development branch is authorized to conduct basic scientific research to improve the health of forests and rangelands involving State, Federal, Tribal agencies, and private landowners across multiple jurisdictions including in urban areas. The study is aligned with the U.S. Department of Agriculture policy of an “all-lands approach” to resource management, which “requires land managers to work across jurisdictions and land-use types, viewing forests landscapes as an integrated whole, both ecologically and socially” (National Report on Sustainable Forests, 2010). This all lands approach applies to urban ecosystems as well. Our project goals are also consistent with the Forest Service, Urban and Community Forestry (UCF) program, which focus on urban forest ecosystems and the role of stewardship and trail connections to parks and public lands that promote health and sustainability for urban residents. This study seeks to identify opportunities for stewardship organizations to better collaborate and, thus, be more effective in the stewardship of all natural areas.

Due to local geographical and/or cultural differences, and to meet the needs of any particular collaborative effort, we may tailor the survey and interview questions to accommodate the unique requirements of individual communities.

Affected Public: Representatives from civic environmental stewardship groups, and from State, local, or Tribal Governments.

Estimate of Burden per Response: 15 to 60 minutes.

Estimated Annual Number of Respondents:

Phase One (Census): 600.

Phase Two (Survey): 15,000.

Phase Three (Follow-up Interviews): 300.

Estimated Annual Number of Responses per Respondent: 1.

Estimated Total Annual Burden on Respondents: 7,925 hours.

Comment is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: March 13, 2018.
Carlos Rodriguez-Franco,
Deputy Chief, Research & Development.

[FR Doc. 2018-06001 Filed 3-22-18; 8:45 am]

BILLING CODE 3411-15-P